DEPARTMENT OF THE INTERIOR

National Park Service

[NPS-WASO-NAGPRA-NPS0038522; PPWOCRADN0-PCU00RP14.R50000]

Notice of Intended Repatriation: San Francisco State University NAGPRA Program, San Francisco, CA

AGENCY: National Park Service, Interior.

ACTION: Notice.

SUMMARY: In accordance with the Native American Graves Protection and Repatriation Act (NAGPRA), the San Francisco State University (SF State) NAGPRA Program intends to repatriate certain cultural items that meet the definition of unassociated funerary objects and that have a cultural affiliation with the Indian Tribes or Native Hawaiian organizations in this notice.

DATES: Repatriation of the cultural items in this notice may occur on or after September 20, 2024.

ADDRESSES: Elise Green, San Francisco State University NAGPRA Program, 1600 Holloway Avenue, San Francisco, CA 94132, telephone (415) 338-1381, email egreen@sfsu.edu.

SUPPLEMENTARY INFORMATION: This notice is published as part of the National Park Service's administrative responsibilities under NAGPRA. The determinations in this notice are the sole responsibility of the SF State NAGPRA Program, and additional information on the determinations in this notice, including the results of consultation, can be found in the summary or related records. The National Park Service is not responsible for the determinations in this notice.

Abstract of Information Available

A total of 205 lots of cultural items have been requested for repatriation. The 205 lots of unassociated funerary objects are tools, pestle fragments, projectile points, pestles, worked chert, stones, chert fragments, mano, glass, hammerstone, obsidian, and a hopper mortar. These cultural items are from archaeological sites in Mendocino County: CA-MEN-Tickenoff Collection, CA-MEN-Etsel Franciscan Survey, CA-MEN-Poor Man's Valley, CA-MEN-775-776, CA-MEN-766, CA-MEN-765, CA-MEN-764, CA-MEN-763, CA-MEN-754, CA-MEN-753, CA-MEN-749, CA-MEN-743, CA-MEN-738, CA-MEN-736, CA-MEN-735, CA-MEN-721, CA-MEN-713, CA-MEN-703, CA-MEN-688, CA-MEN-682, CA-MEN-669, CA-MEN-668, CA-MEN-666, CA-MEN-665, CA-MEN-643, CA-MEN-622, CA-MEN-316, CA-MEN-315, CA-MEN-307, CA-MEN-306, CA-MEN-304, CA-MEN-297, CA-MEN-293, CA-MEN-285, CA-MEN-282, CA-MEN-279, CA-MEN-277, CA-MEN-272, CA-MEN-271, CA-MEN-267, CA-MEN-258, CA-MEN-245, CA-MEN-244, CA-MEN-242, CA-MEN-227, CA-MEN-226, CA-MEN-222, CA-MEN-216, CA-MEN-213, CA-MEN-209, and CA-MEN-208. Many of these sites were excavated as part of the Etsel-Franciscan Reservoir Project located in Williams Valley, CA. SF State previously repatriated ancestors to the Round Valley Indian Tribes in 2000 from this same project. These sites listed above have been determined to be geographically located near Round Valley, CA and associated with the Round Valley Indian Tribes.

It was once common practice by museums to use chemicals on cultural items to prevent deterioration by mold, insects, and moisture. To date, the SF State NAGPRA Program has no records documenting use of chemicals at our facilities, and we currently do not use chemicals on any cultural items. A former SF State professor, Dr. Michael Moratto, stated that staff used glues, polyvinyl acetate, and a solution called Glyptol to mend and stabilize cultural objects in the past. Prior non-invasive and non-destructive hazardous chemical tests conducted at the SF State NAGPRA Program repositories show arsenic, mercury, and/or lead in some storage containers, surfaces, and certain cultural items.

Determinations

The SF State NAGPRA Program has determined that:

• The 205 lots of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Round Valley Indian Tribes, Round Valley Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 20, 2024. If competing requests for repatriation are received, the SF State NAGPRA Program must determine the most appropriate requestor prior to repatriation. Requests for joint repatriation of the cultural items are considered a single request and not competing requests. The SF State NAGPRA Program is responsible for sending a copy of this notice to the Indian Tribes and Native Hawaiian organizations identified in this notice and to any other consulting parties.

Authority: Native American Graves Protection and Repatriation Act, 25 U.S.C. 3004 and the implementing regulations, 43 CFR 10.9.

Dated: August 7, 2024.
Melanie O'Brien,
Manager, National NAGPRA Program.

[FR Doc. 2024-18672 Filed 8-20-24; 8:45 am]

BILLING CODE 4312-52-P